FEDERAL COMMUNICATIONS COMMISSION

47 CFR Part 73

[DA 03-3555; MB Docket No. 03-24; RM-10636]

Radio Broadcasting Services; Apopka, Homosassa Springs, Maitland, FL

AGENCY: Federal Communications Commission.

ACTION: Final rule.

SUMMARY: The Audio Division, at the request of Cox Radio, Inc., licensee of FM Station WPYO, Channel 237A, Apopka, Florida, deletes Apopka, Florida, Channel 237A, from the FM Table of Allotments, allots Channel 237C3 at Maitland, Florida, as the community's first local FM service, and modifies the license of FM Station WPYO to specify operation on Channel 237C3 at Maitland. Channel 237C3 can be allotted to Maitland, Florida, in compliance with the Commission's minimum distance separation requirements with a site restriction of 14.7 km (9.2 miles) east of Maitland. The coordinates for Channel 237C3 at Maitland, Florida, are 28-39-38 North Latitude and 81-13-02 West Longitude.

DATES: Effective January 5, 2004.

FOR FURTHER INFORMATION CONTACT: Deborah Dupont, Media Bureau, (202) 418-2180.

SUPPLEMENTARY INFORMATION: This is a synopsis of the Commission's Report and Order, MB Docket No. 03-24, adopted November 12, 2003, and released November 14, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Apopka, Channel 237A, and by adding Maitland, Channel 237C3.

Federal Communications Commission.
John A. Karousos,
Assistant Chief, Audio Division, Media Bureau.

[FR Doc. 03-30195 Filed 12-4-03; 8:45 am]

BILLING CODE 6712-01-P